DEPARTMENT OF AGRICULTURE

Forest Service

Brush Boulder Project, Boise National Forest, Idaho

AGENCY: Forest Service, USDA.

ACTION: Notice of intent to prepare environmental impact statement.

SUMMARY: The Cascade Ranger District of the Boise National Forest will prepare an environmental impact statement (EIS) for a resource management project in the North Fork Payette River. The entire project area is located within watersheds that drain directly into the North Fork Payette River or its tributaries, downstream of Lake Cascade. The project area is located 7 miles southwest of Cascade, Idaho, and about 100 miles north of Boise, Idaho.

The agency invites written comments and suggestions on the scope of the analysis. The agency also hereby gives notice of the environmental analysis and decision-making process that will occur on the proposal so interested and affected people are aware of how they may participate and contribute to the final decision. At this time, no public meetings to discuss the project are planned.

Proposed Action: Two primary objectives have been identified for the project: (1) Reduce current and future stand susceptibility to forest insects, and (2) improve long-term stand growth to or near levels indicative of healthy, sustainable forests.

The Proposed Action would treat a total of 2,350 acres in the 15,287-acre project area. An estimated 10.0 MMBF of timber would be harvested using ground-based (1,209 acres), skyline (154 acres), and helicopter (159 acres) yarding systems. The Proposed Action would employ a variety of silvicultrual prescriptions including preparation cut of a shelterwood (619 acres), improvement cut (205 acres), improvement cut followed by precommercial thinning (479 acres), seed cut shelterwood (126 acres), final removal shelterwood (27 acres), final removal shelterwood followed by precommercial thinning (12 acres), clearcut with reserve trees (54 acres), and precommercial thinning (828 acres). Precommercial thinning would occur within both plantations and previously managed stands with an overstory component (such as seed cut shelterwoods) where natural and/or artificial regeneration has been established.

The existing transportation system would be improved to facilitate log haul and reduce sedimentation with individual sections of 3.5 miles of road being reconstructed. An estimated 1.4 miles of specified road and 0.7 mile of temporary road would be constructed to facilitate harvest. Roughly 4.4 miles of existing roads would be closed seasonally (September 15 to June 1) with gates to all motorized traffic with the exception of snowmobiles and administrative use. An additional 5.0 miles would be closed seasonally (September 15 to June 1) with gates to vehicles with wheelbases exceeding 40 inches in width with the exception of administrative use. In addition, 0.1 mile of the existing 404B road and the pioneered ford of Olson Creek adjacent to the 404B crossing would be decommissioned.

Preliminary Issues: Preliminary concerns with the Proposed Action include potential impacts on: (1) The visual quality of the area; (2) terrestrial wildlife species; (3) sediment delivery to streams; and (4) the Snowbank Inventoried Roadless Area (IRA).

Possible Alternatives to the Proposed Action: One alternative to the Proposed Action discussed thus far is a no action alternative. Other alternatives will likely be developed as issues are identified and information received.

Decisions to be Made: The Boise National Forest Supervisor will decide the following. Should roads be built and vegetation managed within the Brush Boulder Project Area at this time, and if so; where within the project area, and how many miles of road should be built; and which stands should be treated and what silvicultural systems should be used? What design features and/or mitigation measures should be applied to the project? Should decommissioning of a portion of the 404B road be implemented at this time?

DATES: Written comments concerning the proposed project and analysis are encouraged and should be postmarked within 30 days following publication of this announcement in the Federal Register.

ADDRESSES: Comments should be addressed to the Cascade Ranger District, ATTN: Keith Dimmett, P.O. Box 696, Cascade, ID 83611. Comments received in response to this request will be available for public inspection and will be released in their entirety if requested pursuant to the Freedom of Information Act.

FOR FURTHER INFORMATION CONTACT: Further information can be obtained from Keith Dimmett at the address mentioned above or by calling 208-382-7430.

Schedule: Draft Environmental Impact Statement (DEIS), February 2002. Final Environmental Impact Statement (FEIS), April 2002.

SUPPLEMENTARY INFORMATION: Roughly half of the project area occurs within the Snowbank IRA (02924). None of the activities associated with the Proposed Action would occur within this IRA or any 1,000-acre or larger contiguous unroaded area.

Three different management areas occur within the Brush Boulder Project Area. Roughly 1,947 acres of the project area occur within management area (MA) 48 or 49. Management direction for these two MA's emphasizes recreation opportunities. The remaining 13,340 acres of the project area occur within MA 50 where management direction emphasizes protection of scenic qualities in visually sensitive areas, and intensified timber management in areas of low visual sensitivity. All of the activities associated with the Proposed Action would occur within MA 50.

The comment period on the DEIS will be 45 days from the date the Environmental Protection Agency publishes the notice of availability in the Federal Register.

The Forest Service believes, at this early stage, it is important to give reviewers notice of several court rulings related to public participation in the environmental review process. First, reviewers of the DEIS must structure their participation in the environmental review of the proposal so that it is meaningful and alerts an agency to the reviewer's position and contentions. Vermont Yankee Nuclear Power Corp. v. NRDC, 435 U.S. 519, 553 (1978). Also, environmental objections that could be raised at the DEIS stage but are not raised until after completion of the FEIS may be waived or dismissed by the courts. City of Angoon v. Hodel, 803 F. 2d 1016, 1002 (9th Cir., 1986) and Wisconsin Heritages, Inc. v. Harris, 490 F. Supp. 1334, 1338 (E.D. Wis. 1980). Because of these court rulings, it is very important that those interested in this proposed action participate by the close of the DEIS 45-day comment period so that substantive comments and objections are made available to the Forest Service at a time when it can meaningfully consider them and respond to them in the FEIS.

To assist the Forest Service in identifying and considering issues and concerns on the proposed action, comments on the DEIS should be as specific as possible. It is also helpful if comments refer to specific pages or chapters of the draft statement. Reviewers may wish to refer to the Council on Environmental Quality Regulations for implementing the procedural provisions of the National Environmental Policy Act at 40 CFR 1503.3 in addressing these points.

Responsible Official: David D. Rittenhouse, Forest Supervisor, Boise National Forest, 1249 South Vinnell Way, Suite 200, Boise, ID 83709.

Dated: December 4, 2001.
David D. Rittenhouse,
Forest Supervisor.

[FR Doc. 01-30532 Filed 12-10-01; 8:45 am]

BILLING CODE 3410-11-M